DEPARTMENT OF TRANSPORTATION

Office of the Secretary

Aviation Proceedings, Agreements Filed the Week Ending December 20, 2002

The following agreements were filed with the Department of Transportation under the provisions of 49 U.S.C. sections 412 and 414. Answers may be filed within 21 days after the filing of the application.

Docket Number: OST-2002-14104

Date Filed: December 18, 2002

Parties: Members of the International Air Transport Association

Subject:

PTC23 EUR-SEA 0157 dated December 13, 2002

Expedited Europe-South East Asia Resolutions 002be, 084cc

Intended effective date: February 1, 2003

Docket Number: OST-2002-14123

Date Filed: December 19, 2002

Parties: Members of the International Air Transport Association

Subject:

PTC COMP 0982 dated November 27, 2002—Resolutions

PTC COMP 0988 dated December 20, 2002—Adoption

Mail Vote 255—Resolution 010k

Special Passenger Amending Resolution—Editorial Amendments

TC1 between USA and Chile, Panama

TC12 North Atlantic between USA-Austria, Czech Republic, France, Germany, Italy, Netherlands, Scandinavia

TC31 South Pacific between New Zealand and USA

Intended effective date: April 1, 2003

Docket Number: OST-2002-14124

Date Filed: December 19, 2002

Parties: Members of the International Air Transport Association

Subject:

PTC COMP 0983 dated November 27, 2002—Resolutions

PTC COMP 0989 dated December 20, 2002—Adoption

Mail Vote 256—Resolution 010L

Special Passenger Amending Resolution—Editorial Amendments

TC1

TC2 Within Middle East, Within Africa, Europe-Middle East, Europe-Africa, Middle East-Africa

TC12 North Atlantic Canada-Europe, USA-Europe, Mexico-Europe

TC12 North, Mid and South Atlantic-Africa

TC31 South Pacific

Intended effective date: April 1, 2003.

Docket Number: OST-2002-14125

Date Filed: December 19, 2002

Parties: Members of the International Air Transport Association

Subject:

CTC COMP 0435 dated December 20, 2002

Mail Vote 260—Resolution 010ww

TC3/TC23/TC31 Special Cargo Amending Resolution from Korea (Dem. Rep. of)

Intended effective date: January 1, 2003

Docket Number: OST-2002-14139

Date Filed: December 20, 2002

Parties: Members of the International Air Transport Association

Subject:

PTC23 EUR-J/K 0091 dated December 20, 2002

Mail Vote 259—Resolutions 081aa and 081x TC23/123 Europe-Japan/Korea

TC23 IIT Fares from Germany to Japan, Korea (Rep.of) via EH, TS

TC23/TC123 IIT Fares from Europe to Japan, Korea (Rep.of) via AP, EH, RU, TS

Intended effective date: January 15 and April 1, 2003

Docket Number: OST-2002-14141

Date Filed: December 20, 2002

Parties: Members of the International Air Transport Association

Subject:

PTC3 0596 dated December 10, 2002

TC3 Within South Asian Subcontinent Expedited Resolution r1-r7

PTC3 0598 dated December 10, 2002

TC3 Within South West Pacific Expedited Resolution 002dk r8

PTC3 0600 dated December 10, 2002

TC3 between South Asian Subcontinent and South West Pacific Expedited Resolutions r9-r15

PTC3 0602 dated December 10, 2002

TC3 between Japan and Korea Expedited Resolution 002cf r16

PTC3 0603 dated December 10, 2002

TC3 between Japan, Korea and South Asian Subcontinent Expedited Resolutions r17-r25

PTC3 0604 dated December 10, 2002

TC3 between Japan, Korea and South East Asia Expedited Resolution 002bm r26

PTC3 0605 dated December 10, 2002

TC3 between Japan, Korea and South West Pacific Expedited Resolution 002ab r27

Correction—PTC3 0606 dated December 13, 2002

Corrects PTC3 0602 dated December 10, 2002

Intended effective date: February 1, 2003

Docket Number: OST-2002-14142

Date Filed: December 20, 2002

Parties: Members of the International Air Transport Association

Subject:

PTC3 0601 dated December 10, 2002

TC3 between South East Asia and South West Pacific Expedited Resolutions 002aj, 063p r1-r2

PTC3 0599 dated December 10, 2002

TC3 between South East Asia and South Asian Subcontinent Expedited Resolutions r3-r11

PTC3 0597 dated December 10, 2002

TC3 Within South East Asia Expedited Resolutions 002y, 070uu r12-r13

Intended effective date: February 1, 2003

Docket Number: OST-2002-14144

Date Filed: December 20, 2002

Parties: Members of the International Air Transport Association

Subject:

PTC COMP 0993 dated December 23, 2002

Mail Vote 261—Resolution 024d

Amendment to rounding units for the Costa Rican Colon

Intended effective date: January 1, 2003

Andrea M. Jenkins,
Federal Register Liaison.

[FR Doc. 02-33014 Filed 12-30-02; 8:45 am]

BILLING CODE 4910-62-P